NUCLEAR REGULATORY COMMISSION

[Docket Nos. 50-313 and 50-368]

Entergy Operations, Inc.; Notice of Consideration of Issuance of Amendment to Facility Operating License, Proposed No Significant Hazards Consideration Determination, and Opportunity for a Hearing

The U.S. Nuclear Regulatory Commission (NRC or the Commission) is considering issuance of amendments to Renewed Facility Operating License (FOL) No. DPR-51 and FOL No. NPF-6, issued to Entergy Operations, Inc.(the licensee), for operation of Arkansas Nuclear One (ANO), Units 1 and 2 (ANO-1 and ANO-2), respectively, located in Pope County, Arkansas.

The proposed amendments would allow the licensee to use the spent fuel crane (L-3 crane) to lift heavy loads in excess of 100 tons. Specifically the licensee is requesting approval to use the upgraded L-3 crane for loads up to a total of 130 tons. This application was previously noticed and published in the Federal Register on March 7, 2003 (68 FR 11157).

The amendment application, as supplemented, was submitted on an exigent basis based on the following. The licensee has worked expeditiously to revise the appropriate design basis and to confirm the crane's implementation completeness. The licensee has performed available load lifts within the existing design basis to the extent possible. Additionally, the licensee will be seeking an alternate loading pattern for the ANO-2 spent fuel pool that will alleviate interim space limitations due to degradation of the neutron absorbing boroflex panels. Given the acceptability of the alternate loading pattern amendment, the ANO-2 spent fuel pool will be able to accept a full core offload; however, the spent fuel pool will be severely restricted for other potentially necessary spent fuel pool movements and activities (i.e., fuel examinations). In order to provide critical space in the ANO-2 spent fuel pool, the licensee will need to perform fuel transfers using the new Holtec casks during August 2003. To accomplish the first loading of the new Holtec cask, preparation for cask component heavy load movement requiring the use of the L-3 crane must start the week of July 28, 2003. This schedule will support demonstration of cask component handling capability as required by 10 CFR part 72 prior to loading nuclear fuel. Therefore, the licensee requests NRC approval by July 25, 2003, in order to make final preparations for these cask loading activities.

Before issuance of the proposed license amendment, the Commission will have made findings required by the Atomic Energy Act of 1954, as amended (the Act) and the Commission's regulations.

Pursuant to 10 CFR 50.91(a)(6) for amendments to be granted under exigent circumstances, the NRC staff must determine that the amendment request involves no significant hazards consideration. Under the Commission's regulations in 10 CFR 50.92, this means that operation of the facility in accordance with the proposed amendment would not (1) involve a significant increase in the probability or consequences of an accident previously evaluated; or (2) create the possibility of a new or different kind of accident from any accident previously evaluated; or (3) involve a significant reduction in a margin of safety. As required by 10 CFR 50.91(a), the licensee has provided its analysis of the issue of no significant hazards consideration, which is presented below:

1. Does the proposed change involve a significant increase in the probability or consequences of an accident previously evaluated?

ANO Response: No.

The potential load carrying capability of the new L-3 crane has been increased from 100 tons to 130 tons. The transporting of a spent fuel cask is the maximum load that the crane is designed to handle. The process for transporting a cask is essentially unchanged from that previously performed. Once a cask is loaded with spent fuel it is lifted from the cask loading pit, transported to the hatch, and lowered to the railroad bay. This building arrangement is such that the cask is never carried over the spent fuel pool. The transport height of the cask has been increased to a minimum of 1.5 feet based on the design of the new L-3 crane. The impact limiters used under the previous cask transport process have been eliminated since the L-3 crane is now single failure proof. Because the crane is single failure proof, a postulated cask drop is no longer a credible event; therefore, no adverse effects on plant operation are anticipated to occur and the structural integrity of the spent fuel cask will not be impaired.

If a portion of the L-3 crane lifting devices malfunction or fail, the crane system is designed such that the load will move a limited distance downward prior to backup restraints becoming engaged. The increased minimum transport height (1.5 feet) is established to accommodate this design feature. [A single malfunction or failure of a portion of the crane will not result in the load being dropped. This will allow additional restrictions such as impact limiters to be removed. The radiological consequences will not be increased.] The consequences on the spent fuel contained in the cask have been analyzed under an assumed dropped cask event and has been determined to be within design basis limits for the cask.

Therefore, the proposed change does not involve a significant increase in the probability or consequences of an accident previously evaluated.

2. Does the proposed change create the possibility of a new or different kind of accident from any accident previously evaluated?

ANO Response: No.

The ANO Safety Analysis Reports (SARs) have previously analyzed the drop of a cask up to 100 tons. The cask load has been increased to a maximum of 125 tons under the new single failure proof L-3 crane design for heavier casks being employed at ANO. This increased load could provide a severe impact on safety-related equipment if a load drop event were to occur. However, to ensure that no safety-related equipment is impacted, the construction of a single failure proof crane mitigates the potential for a more severe consequence, since a load drop event is not considered credible.

Therefore, the proposed change does not create the possibility of a new or different kind of accident from any previously evaluated.

3. Does the proposed change involve a significant reduction in a margin of safety?

ANO Response: No.

The L-3 crane has been upgraded to comply with the single failure proof requirements of NUREG-0554 [Single Failure Proof Cranes for Nuclear Power Plants] and Revision 3 of the NRC approved Ederer Topical Report EDR-1 dated October 8, 1982. To comply with the requirements of the topical report the L-3 crane was updated to provide additional load carrying capability and additional safety features were provided to prevent a cask drop event. The safety margins provided by the new crane design have either remained the same or have been enhanced to ensure adequate margin to prevent failure of the crane or any lifting devices associated with the lifting of a spent fuel cask.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

The Commission is seeking public comments on this proposed determination. Any comments received within 14 days after the date of publication of this notice will be considered in making any final determination.

Normally, the Commission will not issue amendments until the expiration of the 14-day notice period. However, should circumstances change during the notice period, such that failure to act in a timely way would result, for example, in derating or shutdown of the facility, the Commission may issue the license amendments before the expiration of the 14-day notice period, provided that its final determination is that the amendments involve no significant hazards consideration. The final determination will consider all public and State comments received. Should the Commission take this action, it will publish in the Federal Register a notice of issuance. The Commission expects that the need to take this action will occur very infrequently.

Written comments may be submitted by mail to the Chief, Rules and Directives Branch, Division of Administrative Services, Office of Administration, U.S. Nuclear Regulatory Commission, Washington, DC 20555-0001, and should cite the publication date and page number of this Federal Register notice. Written comments may also be delivered to Room 6D59, Two White Flint North, 11545 Rockville Pike, Rockville, Maryland, from 7:30 a.m. to 4:15 p.m. Federal workdays. Documents may be examined, and/or copied for a fee, at the NRC's Public Document Room (PDR), located at One White Flint North, Public File Area O1 F21, 11555 Rockville Pike, Rockville, Maryland.

The filing of requests for hearing and petitions for leave to intervene is discussed below.

By July 23, 2003, the licensee may file a request for a hearing with respect to issuance of the amendments to the subject FOLs and any person whose interest may be affected by this proceeding and who wishes to participate as a party in the proceeding must file a written request for a hearing and a petition for leave to intervene. Requests for a hearing and a petition for leave to intervene shall be filed in accordance with the Commission's “Rules of Practice for Domestic Licensing Proceedings” in 10 CFR part 2. Interested persons should consult a current copy of 10 CFR 2.714, which is available at the Commission's PDR, located at One White Flint North, 11555 Rockville Pike (first floor), Rockville, Maryland, and available electronically on the Internet at the NRC Web site http://www.nrc.gov/reading-rm/doc-collections/cfr/. If a request for a hearing or petition for leave to intervene is filed by the above date, the Commission or an Atomic Safety and Licensing Board, designated by the Commission or by the Chairman of the Atomic Safety and Licensing Board Panel, will rule on the request and/or petition; and the Secretary or the designated Atomic Safety and Licensing Board will issue a notice of hearing or an appropriate order.

As required by 10 CFR 2.714, a petition for leave to intervene shall set forth with particularity the interest of the petitioner in the proceeding, and how that interest may be affected by the results of the proceeding. The petition should specifically explain the reasons why intervention should be permitted with particular reference to the following factors: (1) The nature of the petitioner's right under the Act to be made a party to the proceeding; (2) the nature and extent of the petitioner's property, financial, or other interest in the proceeding; and (3) the possible effect of any order which may be entered in the proceeding on the petitioner's interest. The petition should also identify the specific aspect(s) of the subject matter of the proceeding as to which petitioner wishes to intervene. Any person who has filed a petition for leave to intervene or who has been admitted as a party may amend the petition without requesting leave of the Board up to 15 days prior to the first prehearing conference scheduled in the proceeding, but such an amended petition must satisfy the specificity requirements described above.

Not later than 15 days prior to the first prehearing conference scheduled in the proceeding, a petitioner shall file a supplement to the petition to intervene which must include a list of the contentions which are sought to be litigated in the matter. Each contention must consist of a specific statement of the issue of law or fact to be raised or controverted. In addition, the petitioner shall provide a brief explanation of the bases of the contention and a concise statement of the alleged facts or expert opinion which support the contention and on which the petitioner intends to rely in proving the contention at the hearing. The petitioner must also provide references to those specific sources and documents of which the petitioner is aware and on which the petitioner intends to rely to establish those facts or expert opinion. Petitioner must provide sufficient information to show that a genuine dispute exists with the applicant on a material issue of law or fact. Contentions shall be limited to matters within the scope of the amendment under consideration. The contention must be one which, if proven, would entitle the petitioner to relief. A petitioner who fails to file such a supplement which satisfies these requirements with respect to at least one contention will not be permitted to participate as a party.

Those permitted to intervene become parties to the proceeding, subject to any limitations in the order granting leave to intervene, and have the opportunity to participate fully in the conduct of the hearing, including the opportunity to present evidence and cross-examine witnesses.

If the amendments are issued before the expiration of the 30-day hearing period, the Commission will make a final determination on the issue of no significant hazards consideration. If a hearing is requested, the final determination will serve to decide when the hearing is held.

If the final determination is that the amendment request involves no significant hazards consideration, the Commission may issue the amendments and make them immediately effective, notwithstanding the request for a hearing. Any hearing held would take place after issuance of the amendment.

If the final determination is that the amendment request involves a significant hazards consideration, any hearing held would take place before the issuance of any amendments.

A request for a hearing or a petition for leave to intervene must be filed with the Secretary of the Commission, U.S. Nuclear Regulatory Commission, Washington, DC 20555-0001, Attention: Rulemakings and Adjudications Staff, or may be delivered to the Commission's PDR, located at One White Flint North, Public File Area O1 F21, 11555 Rockville Pike, Rockville, Maryland, by the above date. Because of continuing disruptions in delivery of mail to United States Government offices, it is requested that petitions for leave to intervene and requests for hearing be transmitted to the Secretary of the Commission either by means of facsimile transmission to 301-415-1101 or by e-mail to hearingdocket@nrc.gov. A copy of the request for hearing and petition for leave to intervene should also be sent to the Office of the General Counsel, U.S. Nuclear Regulatory Commission, Washington, DC 20555-0001, and because of continuing disruptions in delivery of mail to United States Government offices, it is requested that copies be transmitted either by means of facsimile transmission to 301-415-3725 or by e-mail to OGCMailCenter@nrc.gov. A copy of the request for hearing and petition for leave to intervene should also be sent to Nicholas S. Reynolds, Esquire, Winston and Strawn, 1400 L Street, NW., Washington, DC 20005-3502, attorney for the licensee.

Nontimely filings of petitions for leave to intervene, amended petitions, supplemental petitions and/or requests for hearing will not be entertained absent a determination by the Commission, the presiding officer or the presiding Atomic Safety and Licensing Board that the petition and/or request should be granted based upon a balancing of the factors specified in 10 CFR 2.714(a)(1)(i)-(v) and 2.714(d).

For further details with respect to this action, see the application for amendment dated February 24, 2003, as supplemented by letters dated March 25 and June 30, 2003, which are available for public inspection at the Commission's PDR, located at One White Flint North, Public File Area O1 F21, 11555 Rockville Pike, Rockville, Maryland. Publicly available records will be accessible electronically from the Agencywide Documents Access and Management System's (ADAMS) Public Electronic Reading Room on the Internet at the NRC web site http://www.nrc.gov/reading-rm/adams.html. Persons who do not have access to ADAMS or who encounter problems in accessing the documents located in ADAMS should contact the NRC PDR Reference staff by telephone at 1-800-397-4209, 301-415-4737, or by e-mail to pdr@nrc.gov.

Dated at Rockville, Maryland, this 2nd day of July, 2003.
For the Nuclear Regulatory Commission
Thomas W. Alexion,
Project Manager, Section 1, Project Directorate IV, Division of Licensing Project Management, Office of Nuclear Reactor Regulation.

[FR Doc. 03-17335 Filed 7-8-03; 8:45 am]

BILLING CODE 7590-01-P